DEPARTMENT OF THE INTERIOR

Bureau of Land Management

[NM-930-1310-01; NMNM 105874]

New Mexico: Proposed Reinstatement of Terminated Oil and Gas Lease

Under the provisions of Public Law 97-451, a petition for reinstatement of oil and gas lease NMNM 105874 for lands in Eddy County, New Mexico, was timely filed and was accompanied by all required rentals and royalties accruing from March 1, 2002, the date of termination.

No valid lease has been issued affecting the lands. The lessee has agreed to new lease terms for rentals and royalties at rates of $10.00 per acre or fraction thereof and 16⅔ percent, respectively. The lessee has paid the required $500 administrative fee and has reimbursed the Bureau of Land Management for the cost of this Federal Register notice. The Lessee has met all the requirements for reinstatement of the lease as set out in sections 31(d) and (e) of the Mineral Leasing Act of 1920 (30 U.S.C. 188), and the Bureau of Land Management is proposing to reinstate the lease effective March 1, 2002, subject to the original terms and conditions of the lease and the increased rental and royalty rates cited above.

FOR FURTHER INFORMATION CONTACT: Lourdes B. Ortiz, BLM, New Mexico State Office, (505) 438-7586.

Dated: November 22, 2002.
Lourdes B. Ortiz,
Land Law Examiner.

[FR Doc. 03-593 Filed 1-10-03; 8:45 am]

BILLING CODE 4310-FB-P